FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

Advance Container Line LLC (NVO), 254 Canal Street, Suite 5002, New York, NY 10013. Officers: Chris X. Chou, President/Vice President/Secretary (Qualifying Individual), Yiu Cheung Wong, Treasurer. Application Type: New NVO License.

Airport Clearance Service, Inc. dba ACS Lines (NVO & OFF), 370 West Passaic Street, Suite 3000, Rochelle Park, NJ 07662. Officers: Robert Schumann, COO/Chief Operating Officer (Qualifying Individual), Brian Posthumus, President/CEO. Application Type: QI Change.

Alpha Florida Trade, LLC (NVO & OFF), 2930 NW 108th Avenue, #2930, Doral, FL 33172. Officer: Audric A. Nadal, President (Qualifying Individual), Application Type: New NVO & OFF License.

C. Hartwig Gdynia dba C. Hartwig Transport (NVO), 7, Derdowskiego Street, 81-369 Gdynia, Poland. Officers: Anna Zadroga, Customer Service Manager, Teresa Dabrowska, NVOCC Coordinator (Qualifying Individuals). Application Type: QI Change.

Centro Marine Freight Forward, LLC (OFF), 155 S. Kingsley Drive, Los Angeles, CA 90004. Officers: Ana Serrano, Director (Qualifying Individual), Victor Ortiz, Manager. Application Type: New OFF License.

Cheryl G. Wilson dba JC Logistics (NVO & OFF), 28612 Redondo Beach Drive South, Des Moines, WA 98198. Officer: Cheryl G. Wilson, Sole Proprietor (Qualifying Individual). Application Type: Add NVO Service.

CR & J Logistics, Inc. dba Brightwater Shipping Services (NVO & OFF), 8401 Lake Worth Road, #121, Lake Worth, FL 33467. Officers: Antonio Rente, Vice President (Qualifying Individual), Ronald S. Penn, President. Application Type: New.

Eagle Trans Shipping & Logistics LLC (NVO & OFF), Hoboken Business Center, 50 Harrison Street, Suite 301, Hoboken, NJ 07030. Officers: Debora A. Sacco-Alterisio, Manager (Qualifying Individual), Harbans S. Shrikant, Member. Application Type: QI Change.

Easyway International, LLC (NVO & OFF), 1209 Orange Street, Wilmington, DE 19801. Officers: Frank Xu, Member (Qualifying Individual), Wenliang Xu, Member. Application Type: New NVO & OFF License.

Eurotrans Systems, Inc. (NVO), 299 Broadway, Suite 1815, New York, NY 10007. Officers: Colin J. D'Abreo, Executive Vice President (Qualifying Individual), Juergen Osmers, Director. Application Type: QI Change.

Guaranteed International Freight and Trade Inc. (NVO & OFF), 1271 Ralph Avenue, Brooklyn, NY 11234. Officers: Lawrence N. Medas, Manager (Qualifying Individual), Cornelius L. Medas, CEO. Application Type: New NVO & OFF License.

H.A.B. International, Inc. (NVO), 8513 NW 72nd Street, Miami, FL 33166. Officers: Harold A. Beharry, President/Treasurer (Qualifying Individual), Brehaspati Beharry, Vice President/Secretary. Application Type: New NVO License.

HNM Enterprises LLC dba HNM Global Logistics (NVO & OFF), 3714A Silver Star Road, Orlando, FL 32808. Officers: John Summey, Manager (Qualifying Individual), Tony McGee, Manager Member. Application Type: New NVO & OFF License.

Joseph P. Solomon dba Equitorial Import-Export (OFF), 14810 Greenwood Avenue North, Shoreline, WA 98133. Officer: Joseph P. Solomon, Sole Proprietor (Qualifying Individual). Application Type: New OFF License.

Kamino International Transport, Inc. dba Kamino Ocean Line (NVO & OFF), 145th Avenue & Hook Creek Blvd., Valley Stream, NY 11581. Officers: Mark Bongean, Vice President Operations (Qualifying Individual), Sebastian Tschackert, CEO. Application Type: New NVO & OFF License.

Kog Transport, Inc. (OFF), 299 Broadway, Suite 1815, New York, NY 10007. Officers: Colin J. D'Abreo, Executive Vice President (Qualifying Individual), Juergen Osmers, Director. Application Type: QI Change.

Omega Cargo, Inc. (NVO), 11159 NW 122nd Street, Medley, FL 33178. Officer: Luis E. Vicent, President/Secretary/Treasurer (Qualifying Individual), Application Type: New NVO License.

Seagull Maritime Agencies Private Limited (NVO), F-35/3, Okhla Industrial Area, Phase II, New Delhi 110020 India. Officers: Parveen Mehta, Vice President (Ocean Transportation) (Qualifying Individual), Sidhartha C. Jena, President/Secretary/Treasurer. Application Type: QI Change.

Sky Link NY, Inc. (NVO), 167-43 148th Avenue, 2nd Floor, Jamaica, NY 11434. Officers: Min Joo Lee, President (Qualifying Individual), Young Lee, Secretary. Application Type: New NVO License.

Sunshine Express Line, Inc. (NVO), 8433 NW. 68th Street, Miami, FL 33166. Officers: Donna Coronel, Vice President (Qualifying Individual), Raymond J. Thompson, President. Application Type: QI Change.

Super Trading LLC dba Harry Shipping (OFF), 1810 Riverside Avenue, Bailey Building, Minneapolis, MN 55454. Officers: Simmarjit Singh, Chairman/President/Treasurer (Qualifying Individual), Baljinder Kaur, Secretary. Application Type: New OFF License.

Swift Customs House Brokers LLC dba Swift Worldwide Logistics, LLC (NVO & OFF), 12355 SW. 18th Street, Suite 112, Miami, FL 33175. Officers: Rolando Ayala, President/Managing Director (Qualifying Individual), Gladys G. Rodriguez, Executive Vice President. Application Type: New NVO & OFF License.

Unique Logistics International (NYC), LLC (NVO & OFF) 154-09 146th Avenue, 3rd Floor, Unit B, Jamaica, NY 11434. Officers: Sunadan Ray, President/CEO, Ri Hua Zhuo Mawhinney, Assistant Secretary (Qualifying Individuals). Application Type: Add OFF Service.

Vip Cargo Services Limited Liability Company (NVO), 14 Mountain Avenue, North Plainfield, NJ 07060-4127. Officer: Raja E. Ahmed, Member/President (Qualifying Individual). Application Type: New NVO License.

Vision Shipping, Inc. (NVO & OFF), 4900 Leesburg Pike, #401, Alexandria, VA 22302. Officer: Husam F. Atari, President (Qualifying Individual). Application Type: New NVO & OFF License.

Dated: January 20, 2012.
Rachel E. Dickon,
Assistant Secretary.

[FR Doc. 2012-1559 Filed 1-24-12; 8:45 am]

BILLING CODE 6730-01-P